COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

Comments Must be Received on or Before: 7/9/2012.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 8501-8506) in connection with the services proposed for addition to the Procurement List.

Comments on this certification are invited. Commenters should identify the statement(s) underlying the certification on which they are providing additional information.

End of Certification

The following services are proposed for addition to the Procurement List for provision by the nonprofit agencies listed:

Services

Service Type/Location: Custodial Service, National Weather Service, Ohio River Forecast Center, 1901 S. State Route 134, Wilmington, OH.

NPA: Goodwill Easter Seals Miami Valley, Dayton, OH.

Contracting Activity: Dept of Commerce, National Oceanic and Atmospheric Administration, Norfolk, VA.

Service Type/Location: Custodial Service, Federal Aviation Administration (FAA), EWR Tower Simulation System (TSS) Room, North Cargo Building 157, Liberty International Airport, 10 Tolar Pl., Newark, NJ.

NPA: North Jersey Friendship House, Inc., Hackensack, NJ.

Contracting Activity: Dept of Transportation, Federal Aviation Administration, Jamaica, NY.

Service Type/Location: Mail Service, US Soldiers Systems Center, Kansas Street, Building 20, Natick, MA.

NPA: Community Workshops, Inc., Boston, MA.

Contracting Activity: Dept of the Army, W6QK ACC-APG Natick, Natick, MA.

Service Type/Locations: Custodial Services, Cherry Capital Airport System Support Center, General Aviation Terminal Building, 1220 Airport Access Road, 2nd Floor, Traverse City, MI.

Cherry Capital Airport Air Traffic Control Center, 1330 Airport Access Road, Traverse City, MI.

NPA: Grand Traverse Industries, Inc., Traverse City, MI.

Contracting Activity: Dept of Transportation, Federal Aviation Administration, Des Plaines, MI.

Service Type/Location: Custodial Service, Department of Health and Human Services (DHHS), Supply Service Center, Buildings 5 and 14, Perry Point, MD.

NPA: Alliance, Inc., Baltimore, MD.

Contracting Activity: Dept of Health and Human Services, Health Resources and Services Administration, Perry Point, MD.

Service Type/Location: Custodial Service, Aseptic Level, Veterinary Treatment Facility, 413 Myers Street, Shaw AFB, SC.

NPA: Goodwill Industries of Lower South Carolina, Inc., North Charleston, SC.

Contracting Activity: Dept of the Air Force, FA4803 20 CONS LGCA, Shaw Air Force Base, SC.

Service Type/Location: Custodial Services, Vandenberg AFB, CA.

NPA: Goodwill Industries of Southern California, Los Angeles, CA.

Contracting Activity: Dept of the Air Force, FA4610 30 CONS LGC, Vandenberg Air Force Base, CA.

Service Type/Location: Courier Service, Department of Homeland Security (DHS), Immigration and Customs Enforcement (ICE), Office of Chief Counsel (OCC), 1545 Hawkins Boulevard, Suite 275, El Paso, TX.

NPA: Training, Rehabilitation, & Development Institute, Inc., San Antonio, TX.

Contracting Activity: Department of Homeland Security, U.S. Immigration and Customs Enforcement, Mission Support Orlando, Orlando, FL.

Service Type/Location: Janitorial Service, Corpus Christi Resident Office, U.S. Army Corps of Engineers (USACE), Southern Area Office (SAO), 1920 N. Chaparral St., Corpus Christi, TX.

NPA: Training, Rehabilitation, & Development Institute, Inc., San Antonio, TX.

Contracting Activity: Dept of the Army, W076 Endist Galveston, Galveston, TX.

Service Type/Location: Secure Document Destruction Service, Navy Sea Systems (NAVSEA), Naval Surface Warfare Center (NSWC), (Offsite: 1611 S. Miller Street, Shelbyville, IN), 300 Highway 361, Building 64, Crane, IN.

NPA: Shares Inc., Shelbyville, IN.

Contracting Activity: Dept of the Navy, NSWC CRANE, Crane, IN.

Patricia Briscoe,
Deputy Director, Business Operations (Pricing and Information Management).

[FR Doc. 2012-13940 Filed 6-7-12; 8:45 am]

BILLING CODE 6353-01-P